DEPARTMENT OF HEALTH AND HUMAN SERVICES

National Institutes of Health

Center for Scientific Review; Amended Notice of Meeting

Notice is hereby given of a change in the meeting of the Neurobiology of Motivated Behavior Study Section, February 4, 2010, 8 a.m. to February 5, 2010, 5 p.m., Bahia Resort Hotel, 998 West Mission Bay Drive, San Diego, CA, 92109 which was published in the Federal Register on January 8, 2010, 75 FR 1066-1067.

The meeting will be held at the Catamaran Resort Hotel and Spa, 3999 Mission Boulevard, San Diego, CA 92109. The meeting dates and time remain the same. The meeting is closed to the public.

Dated: January 15, 2010.
Jennifer Spaeth,
Director, Office of Federal Advisory Committee Policy.

[FR Doc. 2010-1405 Filed 1-25-10; 8:45 am]

BILLING CODE 4140-01-P